DEPARTMENT OF ENERGY

Federal Energy Regulatory Commission

[Docket No. EG02-150-000, et al.]

Creed Energy Center, LLC, et al.; Electric Rate and Corporate Regulation Filings

June 18, 2002.

The following filings have been made with the Commission. The filings are listed in ascending order within each docket classification.

1. Creed Energy Center, LLC

[Docket No. EG02-150-000]

Take notice that on June 13, 2002, Creed Energy Center, LLC (Creed) filed with the Federal Energy Regulatory Commission (Commission) an application for determination of exempt wholesale generator status pursuant to Part 365 of the Commission's regulations.

Creed, a Delaware limited liability company, proposes to own and operate a nominally rated 45 MW natural gas-fired, simple cycle electric generating facility to be located in Solano County, California. Creed intends to sell the output at wholesale to an affiliated marketer.

Comment Date: July 9, 2002.

2. Lambie Energy Center, LLC

[Docket No. EG02-151-000]

Take notice that on June 13, 2002, Lambie Energy Center, LLC (Lambie) filed with the Federal Energy Regulatory Commission an application for determination of exempt wholesale generator status pursuant to Part 365 of the Commission's regulations.

Lambie, a Delaware limited liability company, proposes to own and operate a nominally rated 45 MW natural gas-fired, simple cycle electric generating facility to be located in Solano County, California. Lambie intends to sell the output at wholesale to an affiliated marketer.

Comment Date: July 9, 2002.

3. Goose Haven Energy Center, LLC

[Docket No. EG02-152-000]

Take notice that on June 13, 2002, Goose Haven Energy Center, LLC (Goose Haven) filed with the Federal Energy Regulatory Commission (Commission) an application for determination of exempt wholesale generator status pursuant to part 365 of the Commission's regulations.

Goose Haven, a Delaware limited liability company, proposes to own and operate a nominally rated 45 MW natural gas-fired, simple cycle electric generating facility to be located in Solano County, California. Goose Haven intends to sell the output at wholesale to an affiliated marketer.

Comment Date: July 9, 2002.

4. Feather River Energy Center, LLC

[Docket No. EG02-153-000]

Take notice that on June 13, 2002, Feather River Energy Center, LLC (Feather River) filed with the Federal Energy Regulatory Commission (Commission) an application for determination of exempt wholesale generator status pursuant to Part 365 of the Commission's regulations.

Feather River, a Delaware limited liability company, proposes to own and operate a nominally rated 45 MW natural gas-fired, simple cycle electric generating facility to be located in Sutter County, California. Feather River intends to sell the output at wholesale to an affiliated marketer.

Comment Date: July 9, 2002.

5. Dearborn Industrial Generation, L.L.C.

[Docket Nos. ER02-1689-001]

Take notice that on June 12, 2002 Dearborn Industrial Generation, L.L.C. (DIG) tendered for filing with the Federal Energy Regulatory Commission (Commission), an amendment to its filing in this docket.

DIG intends to make sales of ancillary services at market-based rates, in addition to engaging in electric power and energy purchases and sales at market-based rates, which were previously authorized by FERC on February 27, 2001. The amendment makes changes to DIG's filing in accordance with the Commission's May 31, 2002 order herein.

Comment Date: July 3, 2002.

6. California Independent System Operator Corporation

[Docket No. ER02-2010-001]

Take notice that on June 11, 2002, the California Independent System Operator Corporation, (ISO) tendered for filing with the Federal Energy Regulatory Commission (Commission), an errata to its June 3, 2002 filing of a Meter Service Agreement for ISO Metered Entities between the ISO and Energia de Baja California, S. de R. L. de C.V. for acceptance by the Commission.

The ISO states that this filing has been served on Energia de Baja California, S. de R. L. de C.V. and the California Public Utilities Commission.

The ISO is requesting waiver of the 60-day notice requirement to allow the Meter Service Agreement for ISO Metered Entities to be made effective May 29, 2002.

Comment Date: July 2, 2002.

7. Alcoa Power Marketing, Inc.

[Docket No. ER02-2074-000]

Take notice that on June 12, 2002, Alcoa Power Marketing, Inc. (APMI) tendered for filing with the Federal Energy Regulatory Commission (Commission), an application for authority to sell electric energy, capacity and certain ancillary services at market-based rates under Section 205(a) of the Federal Power Act, 16 U.S.C. 824d(a), and accompanying requests for certain blanket approvals and for the waiver of certain Commission regulations. APMI also seeks authorization to reassign any transmission rights it may obtain. APMI requests that the Commission accept its Original Rate Schedule FERC No. 1 for filing.

Comment Date: July 3, 2002.

8. Genesee Power Station Limited Partnership

[Docket No. ER02-2075-000]

Take notice that on June 12, 2002, Genesee Power Station Limited Partnership (Genesee) tendered for filing a Rate Schedule with Consumers Energy Company (Consumers) for a Power Purchase Agreement (designated Genesee Power Station Limited Partnership FERC Electric Rate Schedule No. 1). The Rate Schedule reflects the terms of Amendment No. 1, No. 2 and No. 3 to the original Rate Schedule. Genesee requests a November 28, 2001 effective date for Amendment No. 1, a December 19, 2001 effective date for Amendment No. 2, and a January 23, 2002 effective date for Amendment No. 3.

Copies of the filing were served upon the Consumers.

Comment Date: July 3, 2002.

9. Xcel Energy Services, Inc.

[Docket No. ER02-2076-000]

Take notice that on June 12, 2002 Xcel Energy Services, Inc. (XES), on behalf of Southwestern Public Service Company (SPS), submitted for filing Experimental Sales Riders between SPS and Central Valley Electric Cooperative, Inc.; Lyntegar Electric Cooperative, Inc.; Farmers' Electric Cooperative, Inc.; Roosevelt County Electric Cooperative, Inc.; and Cap Rock Electric Cooperative, Inc. (d/b/a New Corp Resources, Inc.)

XES requests that these agreements become effective on April 1, 2002.

Comment Date: July 3, 2002.

10. Ohio Valley Electric Corporation Indiana-Kentucky Electric Corporation

[Docket No. ER02-2077-000]

Take notice that on June 12, 2001, Ohio Valley Electric Corporation (including its wholly-owned subsidiary, Indiana-Kentucky Electric Corporation) (OVEC) tendered for filing a Service Agreement for Non-Firm Point-To-Point Transmission Service, dated May 15, 2002 (the Service Agreement) between NRG Power Marketing, Inc. (NRG Power) and OVEC. OVEC proposes an effective date of May 15, 2002 and requests waiver of the Commission's notice requirement to allow the requested effective date. The Service Agreement provides for non-firm transmission service by OVEC to NRG Power.

In its filing, OVEC states that the rates and charges included in the Service Agreement are the rates and charges set forth in OVEC's Open Access Transmission Tariff.

A copy of this filing was served upon NRG Power.

Comment Date: July 3, 2002.

11. Carolina Power & Light Company

[Docket No. ER02-2078-000]

Take notice that on June 12, 2002, Carolina Power & Light Company (CP&L) tendered for filing an executed long-term Service Agreement between CP&L and the following eligible buyer, The City of Seneca, SC. Service to this eligible buyer will be in accordance with the terms and conditions of CP&L's Market-Based Rates Tariff, FERC Electric Tariff No. 5.

CP&L requests an effective date of May 16, 2002 for this Service Agreement. Copies of the filing were served upon the North Carolina Utilities Commission and the South Carolina Public Service Commission.

Comment Date: July 3, 2002.

12. Duke Energy Corporation

[Docket No. ER02-2079-000]

Take notice that on June 12, 2002, Duke Energy Corporation (Duke), on behalf of Duke Power and Duke Electric Transmission (Duke ET), tendered for filing with the Federal Energy Regulatory Commission (Commission), (1) an executed Service Agreement for Network Integration Transmission Service (NITSA), dated March 14, 1997 and amended May 16, 2002, between Duke Power, on its own behalf and acting as agent for Nantahala Power and Light Company (Nantahala), and the City of Seneca, South Carolina (Seneca); (2) revised Specifications for Network Integration Transmission Service under the NITSA; (3) an executed Network Operating Agreement (NOA) between Duke ET and Seneca; Seneca, and Southern Company Services, Inc., acting as agent for Seneca, which was inadvertently omitted from Duke Power's Offer of Partial Settlement filed in Docket Nos. ER97-2099-000 AND ER97-2212-000 on August 4, 1997. Duke seeks an effective date of May 16, 2002, for the NITSA and the NOA.

Comment Date: July 3, 2002.

13. Ocean Peaking Power, L.P.

[Docket No. ER02-2080-000]

Take notice that on June 12, 2002, Ocean Peaking Power, L.P. (OPP) tendered for filing with the Federal Energy Regulatory Commission (Commission), pursuant to section 205 of the Federal Power Act, and part 35 of the Commission's regulations, a petition for authorization to make sales of electric capacity, energy and certain ancillary services at market-based rates, and for certain waivers and blanket approvals and authorizations of the Commission's regulations typically granted to entities with market-based rate authorization.

Comment Date: July 3, 2002.

14. New York Independent System Operator, Inc.

[Docket No. ER02-2081-000]

Take notice that on June 12, 2002, the New York Independent System Operator, Inc. (NYISO), filed with the Federal Energy Regulatory Commission (Commission), proposed amendments to the NYISO's Market Administration and Control Area Services Tariff (Services Tariff) and its Open Access Transmission Tariff (OATT) to more fully describe the current method by which the NYISO calculates the price of Energy with respect to Fixed Block Units.

The NYISO is requesting an effective date of May 1, 2001, for its proposed amendments. In the event that the Commission does not accept the NYISO's requested effective date of May 1, 2001, then the NYISO is requesting that the Commission defer the effective date of its Order Accepting Compliance Filing Subject to Conditions and Denying Motion for Clarification, issued on April 29, 2002, until 90 days after issuing its order in the present matter. The NYISO also filed additional proposed amendments to its Services Tariff and OATT that, should the Commission deem them necessary, would modify the NYISO's current price calculation methodology with respect to Fixed Block Units. In the event that the Commission accepts the NYISO's additional proposed amendments, the NYISO requests an effective date for those amendments of 90 days from the date of the Commission's order.

A copy of this filing was served upon all signatories of the NYISO OATT and Services Tariff.

Comment Date: July 3, 2002.

15. Rainy River Energy Corporation

[Docket No. ER02-2082-000]

Take notice that on June 12, 2002, the Rainy River Energy Corporation (RREC) filed with the Federal Energy Regulatory Commission (Commission) a Long-Term Capacity and Energy Purchase Contract between RREC and Wisconsin Public Power Inc.; a Long-Term Capacity and Energy Purchase Contract between RREC and Madison Gas and Electric Company; and an EEI Master Power Purchase and Sale Agreement and Transaction Confirmation for the sale of 80 MW for 12.5 months to Wisconsin Electric Power Company to be effective May 1, 2002.

Comment Date: July 3, 2002.

16. Ohio Valley Electric Corporation

[Docket No. ER02-2084-000]

Take notice that on June 12, 2002, Ohio Valley Electric Corporation (OVEC) tendered for filing a Notice of Cancellation of the Non-Firm Point-to-Point Transmission Service Agreement, dated as of February 27, 1997 between OVEC and Koch Energy Trading, Inc. (Koch), designated as Service Agreement No. 16 under OVEC's FERC Electronic Tariff, Original Volume No. 1. OVEC proposes an effective date of August 12, 2002.

A copy of this filing was served upon Koch and the Public Utilities Commission of Ohio.

Comment Date: July 3, 2002.

17. Northern Iowa Windpower II LLC

[Docket No. ER02-2085-000]

Take notice that on June 12, 2002, Northern Iowa Windpower II LLC (Northern Iowa) petitioned the Federal Energy Regulatory Commission (Commission) for authority to sell electricity at market-based rates under Section 205(a) of the Federal Power Act, 16 U.S.C. 824d(a); for the granting of certain blanket approvals and for the waiver of certain Commission regulations. Northern Iowa is a limited liability company that proposes to engage in the wholesale sale of electric power in the state of Iowa.

Comment Date: July 3, 2002.

17. Louisville Gas and Electric Company/Kentucky Utilities Company

[Docket No. ER02-2086-000]

Take notice that on June 12, 2002, Louisville Gas and Electric Company (LG&E)/Kentucky Utilities (KU) (hereinafter Companies) tendered for filing an unexecuted unilateral Service Sales Agreement between Companies and Northern States Power Company under the Companies' Rate Schedule MBSS.

Comment Date: July 3, 2002.

19. Aquila, Inc.

[Docket No. ES02-45-000]

Take notice that on June 11, 2002, Aquila, Inc. (Aquila) submitted an application pursuant to section 204 of the Federal Power Act seeking authorization to issue no more than 9 million shares of common stock pursuant to the Aquila, Inc. 2002 Omnibus Incentive Compensation Plan.

Aquila also requests a waiver from the Commission's competitive bidding and negotiated placement requirements at 18 CFR 34.2.

Comment Date: July 9, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at z http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-15956 Filed 6-24-02; 8:45 am]

BILLING CODE 6717-01-P